OFFICE OF THE UNITED STATES TRADE REPRESENTATIVE

Trade Policy Staff Committee; Public Comments on Twenty-Three Accessions to the World Trade Organization and on U.S. Participation in Negotiations for the Terms of These Accessions: Algeria, Andorra, Azerbaijan, the Bahamas, Belarus, Bhutan, Bosnia and Herzegovina, Cambodia, Cape Verde, Kazakhstan, Laos, Lebanon, Former Yugoslav Republic of Macedonia, Nepal, Samoa, the Seychelles, Sudan, Tajikistan, Tonga, Uzbekistan, Vietnam, Yemen, and Yugoslavia

AGENCY: Office of the United States Trade Representative.

ACTION: Notice and request for comments.

SUMMARY: As a Member of the World Trade Organization (WTO), the United States participates in negotiations for the terms of accession for new Members to the WTO. The Trade Policy Staff Committee (TPSC) is requesting written comments from the public concerning U.S. commercial interests and other issues related to the accessions of 23 countries seeking to join the WTO, and to assist the United States Trade Representative (USTR) in participation in negotiations for the terms of those accessions. These countries are the Azerbaijan Republic (Azerbaijan), Bosnia and Herzegovina, the Commonwealth of The Bahamas (The Bahamas) the Democratic and Popular Republic of Algeria (Algeria), the Federal Republic of Yugoslavia (Yugoslavia), Former Yugoslav Republic of Macedonia, the Independent State of Samoa (Samoa), the Republic of the Sudan (Sudan), the Kingdom of Bhutan (Bhutan), the Kingdom of Cambodia (Cambodia), the Kingdom of Nepal (Nepal), the Kingdom of Tonga (Tonga), the Lao Democratic People's Republic (Laos), the Lebanese Republic (Lebanon), Principality of Andorra (Andorra), the Republic of Belarus (Belarus), the Republic of Cape Verde (Cape Verde), the Republic of Kazakhstan (Kazakhstan), the Republic of Seychelles (the Seychelles), the Republic of Tajikistan (Tajikistan), the Republic of Uzbekistan (Uzbekistan), the Republic of Yemen (Yemen), and the Socialist Republic of Vietnam (Vietnam). With respect to Vietnam, comments may take into consideration submissions made in response to previous requests for written comments in the context of Vietnam's WTO accession and the negotiation of a Bilateral Trade Agreement.

Public comments should include, but not be limited to, information concerning those countries' current trade policies and practices which affect market access for U.S. exports, e.g., tariffs, non-tariff measures; trade and investment in services; other aspects of the trade regime affecting U.S. trade interests subject to WTO provisions; and other conditions or practices that impair the ability of these countries to grant the benefit of WTO provisions to their trading partners. Comments received will be considered in developing U.S. positions and objectives for the multilateral and bilateral negotiations that will determine the terms of WTO accession for Algeria, Andorra, Azerbaijan, The Bahamas, Belarus, Bhutan, Bosnia and Herzegovina, Cambodia, Cape Verde, Kazakhstan, Laos, Lebanon, Former Yugoslav Republic of Macedonia, Nepal, Samoa, the Seychelles, the Sudan, Tajikistan, Tonga, Uzbekistan, Vietnam, Yemen, and Yugoslavia.

DATES: Public comments should be received by noon on Wednesday, May 15, 2002.

ADDRESSES: Public comment should be submitted to: Gloria Blue, Executive Secretary, TPSC, Office of the USTR, 1724 F Street, NW., Washington, DC 20508. Attention: Office of WTO and Multilateral Affairs

FOR FURTHER INFORMATION CONTACT: Cecilia Leahy Klein, USTR Director for WTO Accessions (202-395-3063) concerning the WTO accession process and issues related to WTO rules; Paul Moore (pmoore@ustr.gov), USTR Director for Market Access and Sarah Sipkins (ssipkins@ustr.gov), USTR Director for Tariffs (202-395-5097) concerning issues related to goods market access negotiations; Sharon Sheffield (ssheffield@ustr.gov), Director for Agricultural Trade Policy (202-395-6127) concerning issues related to trade in agricultural products or agricultural support; or Christina Lund (clund@ustr.gov), USTR Senior Advisor for Services and Intellectual Property Rights and Paul Burkhead (pburkhead@ustr.gov), USTR Director for Services Trade Affairs (202-395-4510) concerning issues related to services market access. Procedural inquiries concerning the public comment process should be directed to Gloria Blue, Executive Secretary, Trade Policy Staff Committee, Office of the United States Trade Representatives, (202) 395-3475.

SUPPLEMENTARY INFORMATION: The countries of Algeria, Andorra, Azerbaijan, The Bahamas, Belarus, Bhutan, Bosnia and Herzegovina, Cambodia, Cape Verde, Kazakhstan, Laos, Lebanon, Former Yugoslav Republic of Macedonia, Nepal, Samoa, the Seychelles, the Sudan, Tajikistan, Tonga, Uzbekistan, Vietnam, Yemen, and Yugoslavia have applied for accession to the WTO. Article XII of the Marrakesh Agreement Establishing the World Trade Organization states that the terms of WTO Membership for these countries will be negotiated with current WTO Members bilaterally and in meetings of the Working Parties established by the Members of the WTO to conduct the negotiations. The results of these negotiations will include a Working Party report and Protocol of Accession, specifying how the applicants for accession will implement WTO Agreements, and Schedules of specific commitments and concessions on market access for imported goods and services, which will be annexed to the Protocol.

The Chairman of the Trade Policy Staff Committee invites written comments from the public on trade and other measures currently applied by Algeria, Andorra, Azerbaijan, The Bahamas, Belarus, Bhutan, Bosnia and Herzegovina, Cambodia, Cape Verde, Kazakhstan, Laos, Lebanon, Former Yugoslav Republic of Macedonia, Nepal, Samoa, the Seychelles, the Sudan, Tajikistan, Tonga, Uzbekistan, Vietnam, Yemen, and Yugoslavia that could be subject to the provisions of the WTO, particularly tariffs applied to imports, and other market access issues for goods and services, or practices or measures that could affect the competitiveness of U.S. goods and services in those markets. All comments received will be considered in developing U.S. positions and objectives for participation in these negotiations.

Market access issues for goods of interest to the TPSC include, but are not limited to: (a) Comments on possible tariff reductions and the removal of restrictive border measures such as quotas or import licensing requirements; (b) uniform application of the trading system; (c) the provision of national treatment and nondiscriminatory treatment for imported goods, especially in the area of domestic taxation and requirements for and restrictions on the right to import and export goods; (d) transparency in application of trade laws and regulations; (e) right of appeal in cases involving application of trade laws and other laws relating to WTO provisions, such as protection and enforcement of intellectual property rights (IPR) and services; (f) customs processing issues, such as document certification prior to export, fees, customs valuation, and certification requirements for imports; (g) industrial export and domestic subsidies; (h) agricultural export subsidies and domestic supports and incentives; (i) safeguard and unfair trade practice procedures applied to imports; (j) plant, animal, and human health and safety requirements, including sanitary and phytosanitary requirements; (k) technical barriers to trade; (l) utilization of preshipment inspection services; (m) application of rules of origin; (n) activities of state trading enterprises, including restrictions and other trade-distorting practices made effective through state trading; (o) price controls and policies; (p) foreign exchange controls that act as barriers to trade and investment; (q) preferential trade arrangements, including membership in free trade arrangements or customs unions; (r) government procurement practices; (s) policies concerning trade in civil aircraft; (t) the trade-related aspects of investment policies; and (u) the protection and enforcement of intellectual property rights.

Market access issues for services of interest to the TPSC include, but are not limited to, (a) transparency in application of trade laws and regulations and the right of appeal in cases involving foreign service suppliers; (b) the right to establish a commercial presence in a foreign market to supply services; (c) the right to travel across national borders to make use of a service; (d) the ability to supply services when neither the supplier nor consumer travel, for example, via electronic means; and (e) the right to enter a foreign market temporarily to provide services.

Information on products or practices subject to these negotiations should include, whenever appropriate or possible, the import or export tariff classification number used for the product concerned, the CPC number used for classification of the services sector concerned, or the official citation of the law or regulation being discussed.

Persons submitting written comments should provide a statement, in twenty (20) copies, by noon, Wednesday, May 15, 2002, to Gloria Blue, Executive Secretary, TPSC, Office of the U.S. Trade Representative, 1724 F Street, NW., Washington, DC 20508. Where possible, please supplement written comments with a computer disk of the submission containing as much of the technical details as possible. The disk should have a label identifying the software used and the name of the respondent. Written comments submitted, except for information granted “business confidential” status pursuant to 15 CFR 2003.6, will be available for public inspection in the USTR Reading Room (Room 101) at the address noted above. An appointment to review the file may be made by calling the Reading Room at (202) 395-6186. The Reading Room is open to the public from 10 a.m. to 12 noon, and from 1 p.m. to 4 p.m. Monday through Friday.

Business confidential information, including any information submitted on disks, will be subject to the requirements of 15 CFR 2003.6. Any business confidential material must be clearly marked as such on the cover letter or page and each succeeding page, and must be accompanied by a non-confidential summary thereof. If the submission contains business confidential information, twenty copies of a public version that does not contain confidential information must be submitted. A justification as to why the information contained in the submission should be treated confidentially must be included in the submission. In addition, any submissions containing business confidential information must be clearly marked “Confidential” at the top and bottom of the cover page (or letter) and each succeeding page of the submission. The version that does not contain confidential information should also be clearly marked, at the top and bottom of each page, “public version” or “non-confidential.”

Carmen Suro-Bredie,
Chairman, Trade Policy Staff Committee.

[FR Doc. 02-6865 Filed 3-20-02; 8:45 am]

BILLING CODE 3190-01-P